DEPARTMENT OF STATE

[Public Notice: 12201]

Certification Related to Foreign Military Financing for Colombia Under Section 7045(B)(2)(B) of the Department of State, Foreign Operations, and Related Programs Appropriations Act, 2023

Pursuant to the authority vested in the Secretary of State, including under section 7045(b)(2)(B) of the Department of State, Foreign Operations, and Related Programs Appropriations Act, 2023 (Div. K, Pub. L. 117-328), I hereby certify that:

(I) the Special Jurisdiction for Peace and other judicial authorities, as appropriate, are sentencing perpetrators of gross violations of human rights, including those with command responsibility, to deprivation of liberty;

(II) the Government of Colombia is making consistent progress in reducing threats and attacks against human rights defenders and other civil society activists, and judicial authorities are prosecuting and punishing those responsible for ordering and carrying out such attacks;

(III) the Government of Colombia is making consistent progress in protecting Afro-Colombian and Indigenous communities and is respecting their rights and territories;

(IV) senior military officers credibly alleged, or whose units are credibly alleged, to be responsible for ordering, committing, and covering up cases of false positives and other extrajudicial killings, or of committing other gross violations of human rights, or of conducting illegal communications intercepts or other illicit surveillance, are being held accountable, including removal from active duty if found guilty through criminal, administrative, or disciplinary proceedings; and

(V) the Colombian Armed Forces are cooperating fully with the requirements described in (I) through (IV) above.

This Certification shall be published in the Federal Register and shall be transmitted, along with the accompanying Memorandum of Justification, to Congress.

Dated: September 15, 2023.
Antony J. Blinken,
Secretary of State.

[FR Doc. 2023-21414 Filed 9-28-23; 8:45 am]

BILLING CODE 4710-29-P